DEPARTMENT OF LABOR

Employment and Training Administration

[TA-W-39,939, TA-W-39,939A]

Willamette Industries, Inc., Korpine Particleboard Division, Now Known as Weyerhaeuser Company Including Temporary Workers of Express Personnel Services, Bend, OR; Willamette Industries, Inc., Particleboard Sales Office, Now Known as Weyerhaeuser Company, Albany, OR; Amended Certification Regarding Eligibility To Apply for Worker Adjustment Assistance

In accordance with section 223 of the Trade Act of 1974 (19 U.S.C. 2273) the Department of Labor issues a Certification of Eligibility to Apply for Worker Adjustment Assistance on January 15, 2002, applicable to workers of Willamette Industries, Inc., Korpine Particleboard Division, Bend, Oregon. The notice was published in the Federal Register on January 31, 2002 (67 FR 4750). The certification was amended on February 4, 2002 to include workers of the Particleboard Sales Office of the subject firm located in Albany, Oregon. The notice was published in the Federal Register on February 13, 2002 (67 FR 6752).

At the request of the State agency, the Department reviewed the certification for workers of the subject firm. Information provided by the State and the company shows that Weyerhaeuser Company purchased Willamette Industries, Inc. in March 2002 and is now known as Weyerhaeuser Company.

Accordingly, the Department is amending the certification determination to properly reflect this matter.

The intent of the Department's certification is to include all workers of Willamette Industries, Inc., Korpine Particleboard Division and the Particleboard Sales Office, now known as Weyerhaeuser Company who were adversely affected by increased imports.

The amended notice applicable to TA-W-39,939 and TA-W-39,939A are hereby issued as follows:

All workers of Willamette Industries, Inc. Korpine Particleboard Division, now known as Weyerhaeuser Company, Bend, Oregon including temporary workers of Express Personnel Services, Bend, Oregon (TA-W-39,939) engaged in employment related to the production of industrial pine particleboard at Willamette Industries, Inc., Korpine Particleboard Division, now known as Weyerhaeuser Company, Bend, Oregon, and all workers of Willamette Industries, Paticleboard Sales Office, now know as Weyerhaeuser Company, Albany, Oregon (TA-W-39,939A) who became totally or partially separated from employment on or after August 17, 2000 through January 15, 2004, are eligible to apply for adjustment assistance under section 223 of the Trade Act of 1974.

Signed at Washington, DC this 9th day of April, 2002.
Linda G. Poole,
Certifying Officer, Division of Trade Adjustment Assistance.

[FR Doc. 02-9749 Filed 4-19-02; 8:45 am]

BILLING CODE 4510-30-M